ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Louisiana and Nevada.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates.

The revised State plans from Louisiana and Nevada address material changes in the respective activities and budgets of the previously submitted State plans. In accordance with HAVA section 254(a)(12), all the State plans submitted for publication provide information on how the respective State succeeded in carrying out its previous State plan. The States all confirm that these material changes to their respective State plans were developed and submitted to public comment in accordance with HAVA sections 254(a)(11), 255, and 256.

Upon the expiration of 30 days from November 17, 2008, the States are eligible to implement the material changes addressed in the plans that are published herein, in accordance with HAVA section 254(a)(11)(C).

EAC wishes to acknowledge the effort that went into revising this State plan and encourages further public comment, in writing, to the State election official listed below.

Chief State Election Officials

The Honorable Jay Dardenne, Secretary of State, Twelve United Plaza, 8585 Archives Avenue, P.O. Box 94125, Baton Rouge, Louisiana 70809, Phone: (225) 922-0900, Fax: (225) 922-0945, E-mail: elections@sos.louisiana.gov.

Mr. Matthew M. Griffin, Deputy Secretary for Elections, Office of the Secretary of State, 101 N. Carson Street, Suite 3, Carson City, Nevada 89701-4786, Phone: (775) 684-5708, Fax: (775) 684-5725, E-mail:

Thank you for your interest in improving the voting process in America.

Dated: October 14, 2008.
Thomas R. Wilkey,
Executive Director, U.S. Election Assistance Commission.

BILLING CODE 6820-KF-P

[FR Doc. E8-26917 Filed 11-14-08; 8:45 am]

BILLING CODE 6820-KF-C